TENNESSEE VALLEY AUTHORITY

Sunshine Act Meeting Notice

Meeting No. 17-03

The TVA Board of Directors will hold a public meeting on August 23, 2017, in the TVA West Tower Auditorium, 400 West Summit Hill Drive, Knoxville, Tennessee. The public may comment on any agenda item or subject at a public listening session which begins at 9:30 a.m. (ET). Following the end of the public listening session, the meeting will be called to order to consider the agenda items listed below. On-site registration will be available until 15 minutes before the public listening session begins at 9:30 a.m. (ET). Preregistered speakers will address the Board first. TVA management will answer questions from the news media following the Board meeting.

Status: Open.

Agenda

1. Report of the Finance, Rates, and Portfolio Committee

A. Contribution to the TVA Retirement System

B. FY 2018 Financial Plan and Budget

C. Financing Authority

D. Rate Adjustment

2. Chair's Remarks

3. Approval of Minutes of the May 11, 2017, Board Meeting

4. Report From President and CEO

5. Continuation of Report of the Finance, Rates, and Portfolio Committee

A. Standby Rates

6. Report of the Nuclear Oversight Committee

7. Report of the Audit, Risk, and Regulation Committee

A. FY 2018 External Auditor Selection

B. Board Practice on External Inquiries

8. Report of the People and Performance Committee

A. Corporate Goals

B. Dental Administration Contract

9. Report of the External Relations Committee

A. Knoxville Office Complex

B. Multiple Reservoirs Land Management Plan

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 16, 2017.
Sherry A. Quirk,
General Counsel.

[FR Doc. 2017-17709 Filed 8-17-17; 11:15 am]

BILLING CODE 8120-08-P